DEPARTMENT OF COMMERCE

National Oceanic and Atmospheric Administration

[RTID 0648-XC478]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a half-day meeting of its Coral Advisory Panel (AP) via webinar.

DATES: The meeting will take place Monday, November 9, 2022, from 8:30 a.m. to 12 p.m., EST.

ADDRESSES: The meeting will be held via webinar. Registration information will be available on the Council's website by visiting www.gulfcouncil.org and clicking on the Coral AP meeting on the calendar.

Council address: Gulf of Mexico Fishery Management Council, 4107 W. Spruce Street, Suite 200, Tampa, FL 33607; telephone: (813) 348-1630.

FOR FURTHER INFORMATION CONTACT: Dr. Natasha Mendez-Ferrer, Fishery Biologist, Gulf of Mexico Fishery Management Council; email: natasha.mendez@gulfcouncil.org; telephone: (813) 348-1630.

SUPPLEMENTARY INFORMATION:

Monday, November 9, 2022; 8:30 a.m.-12 p.m., EST

The meeting will begin with Introductions of Members, Election of Chair and Vice Chair, Adoption of Agenda, Approval of Minutes from the Joint Coral AP and SSC February 7, 2022 meeting, and review of Scope of Work.

The APs will receive a presentation on the Florida Keys National Marine Sanctuary Expansion Proposal; including background materials and AP Recommendations and a discussion on Stony Coral Tissue Loss Disease.

The AP will receive public comment; and, discuss any Other Business items.

—Meeting Adjourns

The meeting will be via webinar only. You may register for the webinar by visiting www.gulfcouncil.org and clicking on the Advisory Panel meeting on the calendar. The Agenda is subject to change, and the latest version along with other meeting materials will be posted on www.gulfcouncil.org as they become available.

Although other non-emergency issues not on the agenda may come before the Advisory for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: October 18, 2022.
Rey Israel Marquez,
Acting Deputy Director, Office of Sustainable Fisheries, National Marine Fisheries Service.

[FR Doc. 2022-22962 Filed 10-20-22; 8:45 am]

BILLING CODE 3510-22-P